DEPARTMENT OF AGRICULTURE

Agricultural Marketing Service

7 CFR Part 51

[Docket # FV-98-303]

Apples; Grade Standards

AGENCY: Agricultural Marketing Service, USDA.

ACTION: Final rule; correction.

SUMMARY: The Agricultural Marketing Service published in the Federal Register on November 19, 2002, (67 FR 69660) final regulations revising the United States Standards for Grades of Apples. In that document, incomplete paragraph references were published. This document corrects those references.

EFFECTIVE DATE: December 30, 2002.

FOR FURTHER INFORMATION CONTACT: David Priester, Standardization Section, Fresh Products Branch, Fruit and Vegetable Programs, Agricultural Marketing Service, U.S. Department of Agriculture, 1400 Independence Avenue, SW., Room 2065 South Building, STOP 0240, Washington, DC 20250; Fax (202) 720-8871.

SUPPLEMENTARY INFORMATION:

Background

The final regulations that are the subject of these corrections contained conforming and editorial changes to the United States Standards for Grades of Apples. The rule was necessary to update and revise the standards to more accurately represent today's marketing practices.

Need for Correction

As published, the final regulations contains errors which may prove to be misleading and are in need of clarification.

Correction of Publication

Accordingly, the publication on November 19, 2002 (67 FR 69660), which is the subject of FR Doc. 02-29034, is corrected as follows:

§ 51.316 [Corrected]

1. On page 69666, first column, paragraph (e)(3), the words “paragraphs (1)” are corrected to read “paragraphs (e)(1)”.

§ 51.317 [Corrected]

2. On page 69666, third column, paragraph (g)(3), the words “paragraphs (1)” are corrected to read “paragraphs (g)(1)”.

§ 51.318 [Corrected]

3. On page 69667, second column, paragraph (i)(e), the words “paragraphs (1)” are corrected to read “paragraphs (i)(1)”.

Dated: December 20, 2002.
A.J. Yates,
Administrator, Agricultural Marketing Service.

[FR Doc. 02-32805 Filed 12-27-02; 8:45 am]

BILLING CODE 3410-02-M